OFFICE OF PERSONNEL MANAGEMENT

5 CFR Part 532

RIN 3206-AN11

Prevailing Rate Systems; Abolishment of the Portland, ME, Appropriated Fund Federal Wage System Wage Area

AGENCY: U.S. Office of Personnel Management.

ACTION: Final rule.

SUMMARY: The U.S. Office of Personnel Management (OPM) is issuing a final rule to abolish the Portland, Maine, appropriated fund Federal Wage System (FWS) wage area and redefine Androscoggin, Cumberland, and Sagadahoc Counties, ME, to the Portsmouth, New Hampshire, survey area and Franklin and Oxford Counties, ME, and Coos County, NH, to the Portsmouth area of application. These changes are necessary because the closure of the Naval Air Station (NAS) Brunswick left the Portland wage area without an activity having the capability to conduct a local wage survey.

DATES: Effective date: This regulation is effective on April 1, 2015. Applicability date: FWS employees remaining in the Portland wage area will be transferred to the Portsmouth wage area schedule on the first day of the first applicable pay period beginning on or after May 1, 2015. For local wage survey purposes, this rule will add Androscoggin, Cumberland, and Sagadahoc Counties, ME, to the survey area for the Portsmouth, NH, wage area beginning with the full-scale wage survey scheduled to begin in September 2016.

FOR FURTHER INFORMATION CONTACT: Madeline Gonzalez, by telephone at (202) 606-2838 or by email at pay-leave-policy@opm.gov.

SUPPLEMENTARY INFORMATION: On December 9, 2014, OPM issued a proposed rule (79 FR 72997) to abolish the Portland, Maine, appropriated fund FWS wage area and redefine Androscoggin, Cumberland, and Sagadahoc Counties, ME, to the Portsmouth, New Hampshire, survey area and Franklin and Oxford Counties, ME, and Coos County, NH, to the Portsmouth area of application. These changes are necessary because the closure of NAS Brunswick in May 2011 left the Portland wage area without an activity having the capability to conduct a local wage survey. The Federal Prevailing Rate Advisory Committee, the national labor-management committee responsible for advising OPM on matters concerning the pay of FWS employees, made a majority recommendation to define the entire wage area to the Portsmouth wage area. The proposed rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Katherine Archuleta,
Director.

Accordingly, OPM amends 5 CFR part 532 as follows:

PART 532—PREVAILING RATE SYSTEMS

1. The authority citation for part 532 continues to read as follows:

Authority: 5 U.S.C. 5343, 5346; § 532.707 also issued under 5 U.S.C. 552.

Appendix A to Subpart B of Part 532—Amended]

2. Appendix A to subpart B of part 532 is amended for the State of Maine by removing the entry for Portland.

3. Appendix C to subpart B is amended by removing the wage area listing for Portland, ME, and revising the wage area listing for the Portsmouth, NH, wage area to read as follows:

Appendix C to Subpart B of Part 532—Appropriated Fund Wage and Survey Areas

* * * * *

NEW HAMPSHIRE
Portsmouth
Survey Area
Maine:
Androscoggin
Cumberland
Sagadahoc
York
Massachusetts:
The following cities and towns in:
Essex County
Amesbury
Georgetown
Groveland
Haverhill
Merrimac
Newbury
Newburyport
North Andover
Salisbury
South Byfield
West Newbury
New Hampshire:
Rockingham (except the following cities and towns: Newton, Plaistow, Salem, and Westville)
Strafford
Area of Application. Survey area plus:
Maine:
Franklin
Oxford
New Hampshire:
Coos
The following cities and towns in:
Rockingham County
Newton
Plaistow
Salem
Westville

* * * * *

[FR Doc. 2015-07405 Filed 3-31-15; 8:45 am]

BILLING CODE 6325-39-P